DEPARTMENT OF LABOR

Employment and Training Administration

[TA-W-63,618]

Whirlpool Corporation, Fort Smith, AR; Notice of Termination of Investigation

Pursuant to Section 221 of the Trade Act of 1974, as amended, an investigation was initiated on June 30, 2008 in response to a worker petition filed by a state agency representative on behalf of workers of Whirlpool Corporation, Fort Smith, Arkansas.

The petitioner has requested that the petition be withdrawn. Consequently, the investigation has been terminated.

Signed at Washington, DC, this 18th day of August 2008.
Linda G. Poole,
Certifying Officer, Division of Trade Adjustment Assistance.

[FR Doc. E8-20044 Filed 8-28-08; 8:45 am]

BILLING CODE 4510-FN-P